NUCLEAR REGULATORY COMMISSION

Documents Containing Reporting or Recordkeeping Requirements; Office of Management and Budget (OMB) Review

AGENCY: Nuclear Regulatory Commission (NRC).

ACTION: Notice of the OMB review of information collection and solicitation of public comment.

SUMMARY: The NRC has recently submitted to OMB for review the following proposal for collection of information under the provisions of the Paperwork Reduction Act of 1995 (44 U.S.C. Chapter 35).

1. Type of submission, new, revision, or extension: Revision.

2. The title of the information collection: Final Rule, 10 CFR part 26, “Changes to the Fitness for Duty Program”.

3. The form number if applicable: Not applicable.

4. How often is the collection required: Annually and on occasion.

5. Who will be required or asked to report: All licensees authorized to construct or operate a nuclear power reactor and all licensees authorized to possess, use, or transport unirradiated Category 1 nuclear material.

6. An estimate of the number of responses: A reduction of 72 responses (semi-annual to annual report).

7. The estimated number of annual respondents: 72 licensees.

8. An estimate of the number of hours annually needed to complete the requirement or request: A reduction of approximately of 9,400 hours annually (131 hours per licensee) or a reduction of 2,450 reporting hours and 6,950 of recordkeeping hours.

9. An indication of whether Section 3504(h), Public Law 96-511 applies: Applicable.

10. Abstract: 10 CFR Part 26, “Fitness-For-Duty Programs,” requires licensees to implement fitness-for-duty programs to assure that personnel are not under the influence of any substance or mentally or physically impaired, to retain certain records associated with the management of these programs, and to provide reports concerning the performance of the programs and certain significant events. Compliance with these requirements is mandatory for licensees subject to 10 CFR Part 26.

A revision to 10 CFR Part 26 modifies the information collection requirements to, among other less significant changes, (1) extend coverage to certain classes of fitness-for-duty programs; (2) require licensees to revise their written policy and procedure to incorporate minor administrative procedures, e.g., Medical Review Officer medical review procedures and changes to various technical guidelines contained in Appendix A of 10 CFR Part 26; (3) require all licensees to obtain information in addition to that currently provided in written form from individuals which would indicate whether the individual has a history of substance abuse; and (4) add fitness-for-duty personnel as a third class of people whose negative acts would be reported.

A copy of the final supporting statement may be viewed free of charge at the NRC Public Document Room, One White Flint North, 11555 Rockville Pike, Room O-1 F23, Rockville, MD 20852. OMB clearance packages are available at the NRC worldwide web site http://www.nrc.gov/NRC/PUBLIC/OMB/index.html. The document will be available on the NRC home page site for 60 days after the signature date of this notice.

Comments and questions should be directed to the OMB reviewer listed below by March 5, 2001. Amy Farrell, Office of Information and Regulatory Affairs (3150-0146), NEOB-10202, Office of Management and Budget, Washington, DC 20503.

Comments can also be submitted by telephone at (202) 395-7318.

The NRC Clearance Officer is Brenda J. Shelton, 301-415-7233.

Dated at Rockville, Maryland, this 25th day of January 2001.
For the Nuclear Regulatory Commission.
Brenda J. Shelton,
NRC Clearance Officer, Office of the Chief Information Officer.

[FR Doc. 01-2831 Filed 2-1-01; 8:45 am]

BILLING CODE 7590-01-P